DEPARTMENT OF HEALTH AND HUMAN SERVICES

Health Resources and Services Administration

Council on Graduate Medical Education; Notice of Meeting

In accordance with section 10(a)(2) of the Federal Advisory Committee Act (Public Law 92-463), notice is hereby given of the following meeting:

Name: Council on Graduate Medical Education (COGME).

Dates and Times: September 18, 2007, 8:30 a.m.-5:15 p.m.; and September 19, 2007, 8:30 a.m.-3:15 p.m.

Place: Crowne Plaza Silver Spring, 8777 Georgia Avenue, Silver Spring, Maryland 20910.

Status: The Meeting Will Be Open to the Public.

Agenda: On The Morning Of September 18, Following The Welcoming Remarks From The Cogme Chair, the Executive Secretary of COGME, and Health Resources and Services Administration senior management, there will be presentations of comments and thoughts from selected Associations on COGME's two draft reports, Enhancing GME Flexibility and New Paradigms for Physician Training for Improving Access to Healthcare. Following Council discussions, at 1:30 p.m. there will be a breakout of Council members into the two draft writing groups for further report revisions. At 3:30 p.m., Barbara Chang, M.D. and Earl Reisdorff, M.D., the writing group chairs, will give their reports to the Council. There will be further discussion on writing group activities and reports. There will also be a discussion of further steps for producing reports.

On September 19, there will be a presentation on a George Washington University physician workforce planning initiative. There will be a panel presentation of activities of three advisory committees staffed within the Bureau of Health Professions; the Advisory Committee on Primary Care Medicine and Dentistry, the Advisory Committee on Interdisciplinary, Community Based Linkages, and the National Advisory Council on Nurse Education and Practice. Following will be an overview presentation on State Physician Workforce/GME Planning. The Council will conclude with a discussion of new issues/identification for future reports.

Agenda items are subject to change as priorities dictate.

For Further Information Contact: Jerald M. Katzoff, Executive Secretary, COGME, Division of Medicine and Dentistry, Bureau of Health Professions, Parklawn Building, Room 9A-21, 5600 Fishers Lane, Rockville, Maryland 20857, Telephone (301) 443-6785.

Dated: August 15, 2007.
Alexandra Huttinger,
Acting Director, Division of Policy Review and Coordination.

[FR Doc. E7-16373 Filed 8-20-07; 8:45 am]

BILLING CODE 4165-15-P